DEPARTMENT OF LABOR

Mine Safety and Health Administration

Fee Adjustment for Testing, Evaluation, and Approval of Mining Products

AGENCY: Mine Safety and Health Administration, Labor.

ACTION: Notice of fee adjustment.

SUMMARY: The Mine Safety and Health Administration (MSHA) announces a revised hourly rate for the fees charged to applicants and approval holders for testing, evaluating, and approving products for use in mines. MSHA charges a fee to cover the full cost (direct and indirect costs) of its services associated with the approval program. The new hourly rate is $137.

DATES: MSHA will charge the new hourly rate for new approval services starting January 1, 2019.

FOR FURTHER INFORMATION CONTACT: Dennis L. Ferlich, Chief, Approval and Certification Center (A&CC), 304-547-2029 or 304-547-0400 (these are not toll-free numbers).

SUPPLEMENTARY INFORMATION:

I. Background

Under the Federal Mine Safety and Health Act of 1977 (Mine Act), as amended, MSHA's mission is to prevent death, disease, and injury from mining and promote safe and healthy workplaces for the Nation's miners. MSHA approves equipment, materials, and explosives for use in mines to assure that the products are designed, constructed, and maintained so as not to cause a fire, explosion, or other accident. MSHA's regulation under 30 CFR part 5, Fees for Testing, Evaluation, and Approval of Mining Products, establishes the method the Agency uses to calculate the fees needed to recover costs for approval services.

Under 30 U.S.C. 966, MSHA may collect and retain up to $2,499,000 of fees collected for the approval and certification of equipment, materials, and explosives for use in mines.

On July 29, 2015, MSHA published a final rule in the Federal Register (80 FR 45051) that revised the Agency's regulation for administering fees for testing, evaluation, and approval of products manufactured for use in mines. Under the final rule, MSHA revised the hourly rate by dividing the total of a prior fiscal year's approval program costs (direct and indirect costs) by the number of total direct hours spent on approval program activities for that year. The hourly rate was increased from $97 to $121.

MSHA began charging the existing hourly rate on October 1, 2015, for new approval applications.

II. Applicable Fee

Under 30 CFR 5.50, an hourly rate will remain in effect for at least one year and be subject to revision at least once every three years. MSHA calculates the FY 2019 hourly rate using FY 2017 costs for baseline data. MSHA has determined that as of January 1, 2019, the hourly rate will be $137 per hour for services on new applications and post-approval activities (changes to approvals and post-approval product audits).

• MSHA will process applications and post-approval activities postmarked before January 1, 2019, under the existing FY 2018 hourly rate of $121.

• MSHA will process applications and post-approval activities postmarked on or after January 1, 2019, under the revised FY 2019 hourly rate of $137. This information is available on MSHA's web page at http://www.msha.gov.

David G. Zatezalo,
Assistant Secretary of Labor for Mine Safety and Health.

[FR Doc. 2018-27633 Filed 12-20-18; 8:45 am]

BILLING CODE 4510-43-P